DEPARTMENT OF ENERGY

Federal Energy Regulatory Commission

[Docket No. CP00-412-000]

Cross Bay Pipeline Company, L.L.C. and Transcontinental Gas Pipe Line Corporation; Notice of Site Visit

November 22, 2000.

On November 30, 2000, staff from the Office of Energy Projects (OEP) will conduct a pre-certification site visit of the proposed Cross Bay Project at Cross Bay Pipeline Company, L.L.C.'s (Cross Bay) proposed and alternative sites for the Cross Bay Compressor Station in Middlesex County, New Jersey, Representatives of Cross Bay will accompany the OEP staff.

All interested parties may attend the site visit. Those planning to attend must provide their own transportation. For further information on attending the site visit, please contact the Commission's Office of External Affairs at (202) 208-0004.

David P. Boergers,
Secretary.

[FR Doc. 00-30594 Filed 11-30-00; 8:45 am]

BILLING CODE 6717-01-M